DEPARTMENT OF HOMELAND SECURITY

Federal Emergency Management Agency

[Docket ID: FEMA-2009-0001]

Agency Information Collection Activities: Proposed Collection; Comment Request

AGENCY: Federal Emergency Management Agency, DHS.

ACTION: Notice; 60-day notice and request for comments; new information collection; OMB No. 1660-NW35; FEMA Form 528-1, NEFRLS Registration; and FEMA Form 528-2, NEFRLS Search.

SUMMARY: The Federal Emergency Management Agency, as part of its continuing effort to reduce paperwork and respondent burden, invites the general public and other Federal agencies to take this opportunity to comment on a proposed new information collection. In accordance with the Paperwork Reduction Act of 1995, this Notice seeks comments concerning the National Emergency Family Registry and Locator System (NEFRLS) established in accordance with Title VI of the Department of Homeland Security Appropriations Act of 2007 to help facilitate the reunification of families displaced due to a major disaster or emergency

DATES: Comments must be submitted on or before June 29, 2009.

ADDRESSES: To avoid duplicate submissions to the docket, please use only one of the following means to submit comments:

(1) Online. Submit comments at http://www.regulations.gov under docket ID FEMA-2009-0001. Follow the instructions for submitting comments.

(2) Mail. Submit written comments to Office of Chief Counsel, Regulation and Policy Team, DHS/FEMA, 500 C Street, SW., Room 835, Washington, DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Waddy Gonzalez, Mass Care Team Lead, Individual Assistance Division, Mass Care Unit, at (202) 212-1077 for additional information. You may contact the Records Management Branch for copies of the proposed collection of information at facsimile number (202) 646-3347 or e-mail address: FEMA-Information-Collections@dhs.gov.

SUPPLEMENTARY INFORMATION: The Post-Katrina Emergency Management Reform Act of 2006, in Title VI of the DHS Appropriations Act of 2007, Public Law 109-295, section 689c, 120 Stat. 1355 at 1451 is the legal basis for FEMA to provide a National Emergency Family Registry and Locator System (NEFRLS) to allow adults (including medical patients) that have been displaced by a Presidentially-declared disaster or emergency to voluntarily register by submitting personal information to be entered into a database that could be used by others to help reunify them with their families.

Collection of Information

Title: National Emergency Family Registry and Locator System (NEFRLS).

Type of Information Collection: New information collection.

OMB Number: 1660-NW35.

Form Titles and Numbers: FEMA Form 528-1, NEFRLS Registration; and FEMA Form 528-2, NEFRLS Search.

Abstract: NEFRLS is a Web-based system. The information collected in the NEFRLS will be used to help facilitate the reunification of family members that have been displaced due to a major disaster or emergency.

Affected Public: Individuals or households.

Estimated Total Annual Burden Hours: 328,366 Hours.

Table A.12—Estimated Annualized Burden Hours and Costs
Type of respondent | Form name/form number | No. of respondents | No. of responses per respondent | Avg. burden per response (in hours) | Total annual burden (in hours) | Avg. hourly wage rate | Total annual respondent cost
Individuals or households | NEFRLS Registration 800#/FEMA Form 528-1 | 42,717 | 1 | .32 (19 minutes) | 13,527 | $19.81 | $267,970
Individuals or households | NEFRLS Registration Internet/FEMA Form 528-1 | 14,239 | 1 | .22 (13 minutes) | 3,085 | 19.81 | 61,114
Subtotal—Registration |  | 56,956 |  |  |  |  |
Individuals or households | NEFRLS Search 800#/FEMA Form 528-2 | 194,846 | 3 | .32 (19 minutes) | 185,104 | 19.81 | $3,666,910
Individuals or households | NEFRLS Search Internet/FEMA Form 528-2 | 194,846 | 3 | .22 (13 minutes) | 126,650 | 19.81 | 2,508,937
Subtotal—Search |  | 389,692 |  |  |  |  |
Total |  | 446,648 |  |  | 328,366 |  | 6,504,931

Estimated Cost: There are no start-up, operational or other costs associated with this information collection in addition to the burden hour cost noted in the table above.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Larry Gray,
Director, Records Management Division, Office of Management, Federal Emergency Management Agency, Department of Homeland Security.

[FR Doc. E9-9813 Filed 4-28-09; 8:45 am]

BILLING CODE 9111-23-P